SOCIAL SECURITY ADMINISTRATION

[Docket No. SSA-2009-0063]

Notice of Senior Executive Service Performance Review Board Membership

AGENCY: Social Security Administration.

ACTION: Notice of Senior Executive Service Performance Review Board Membership.

Title 5, U.S. Code 4314 (c)(4), requires that the appointment of Performance Review Board members be published in the Federal Register before service on said Board begins.

The following persons will serve on the Performance Review Board which oversees the evaluation of performance appraisals of Senior Executive Service members of the Social Security Administration:

Sean Brune *

JoEllen Felice

Alan Heim *

Pete Herrera

Bonnie Kind *

Eileen McDaniel

Marcia Mosley

Steven Patrick *

Ronald Raborg

Roy Snyder

Tina Waddell

Daryl Wise *

* New Member

Dated: September 11, 2009
Reginald F. Wells,
Deputy Commissioner for Human Resources.

[FR Doc. E9-22394 Filed 9-16-09; 8:45 am]

BILLING CODE 4191-02-P